ENVIRONMENTAL PROTECTION AGENCY

[ER-FRL-8989-9]

Environmental Impacts Statements; Notice of Availability

Responsible Agency: Office of Federal Activities, General Information (202) 564-1399 or http://www.epa.gov/compliance/nepa/.

Weekly receipt of Environmental Impact Statements Filed 04/12/2010 through 04/16/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100133, Final EIS, FHWA, 00, TIER 1—FEIS Trans-Texas Corridor—35 (TTC-35) System, Improvement to International, Interstate and Intrastate Movement of Goods and People, Oklahoma-Mexico/Gulf Coast Element, Wait Period Ends: 05/24/2010, Contact: Brett Jackson 512-536-5946.

EIS No. 20100134, Final EIS, FHWA, TN, US 127/TN 28 Improvements, from 1-40 at Crossville to TN 62 at Clarkrange, Funding, U.S. Army COE Section 10 and 404 Permits, Cumberland and Fentress Counties, TN, Wait Period Ends: 05/24/2010, Contact: Pamela M. Kordenbrock 615-781-5770.

EIS No. 20100135, Final EIS, BLM, NV, Round Mountain Expansion Project, Proposed to Construct and Operate and Expand the Existing Open-Pit Gold Mining and Processing Operations, north of the town of Tonopah in Nye County, NV, Wait Period Ends: 05/24/2010, Contact: Christopher Worthington 775-635-4000.

EIS No. 20100136, Final EIS, USFS, 00, Nebraska National Forests and Grassland Travel Management Project, Proposes to Designate Routes and Areas Open to Motorized Travel, Buffalo Gap National Grassland, Oglala National Grassland, Samuel R. McKelvie National Forest, and the Pine Ridge and Bessey Units of the Nebraska National Forest, Fall River, Custer, Pennington, Jackson Counties; SD and Sioux, Dawes, Cherry, Thomas and Blaine Counties, NE, Wait Period Ends: 05/24/2010, Contact: Mike McNeill 308-432-0336.

EIS No. 20100137, Draft EIS, USFS, ID, Robo Elk Project, Proposes Watershed Improvement, Timber Harvest, Fuel Treatments, and Recreation Activities, Palouse Ranger District, Clearwater National Forest, Clearwater County, ID, Comment Period Ends: 06/07/2010, Contact: George Harbaugh 208-935-4260.

EIS No. 20100138, Final EIS, BR, CA, Lake Casitas Resource Management Plan (RMP), Implementation, Cities of Los Angeles and Ventura, Western Ventura County, CA, Wait Period Ends: 05/24/2010, Contact: Jack Collins 559-349-4544.

EIS No. 20100139, Draft EIS, USFS, CA, Kelsey Peak Timber Sale and Fuelbreak Project, Proposing to Harvest Commercial Timber and Create Fuelbreak, Upper Mad River Watershed, Mad River Ranger District, Six Rivers National Forest, Trinity County, CA, Comment Period Ends: 06/07/2010, Contact: Keith Menasco 928-774-0594.

EIS No. 20100140, Final EIS, FSA, 00, PROGRAMMATIC—Biomass Crop Assistance Program (BCAP), To Establish and Administer the Program Areas Program Component of BCAP as mandated in Title IX of the 2008 Farm Bill in the United States, Wait Period Ends: 05/24/2010, Contact: Matthew T. Ponish 202-720-6853.

EIS No. 20100141, Final EIS, BLM, UT, Mona to Oquirrh Transmission Corridor Project and Draft Pony Express Resource Management Plan Amendment, Construction, Operation, Maintenance and Decommissioning a Double-Circuit 500/345 Kilovolt (Kv) Transmission Line, Right-of-Way Grant, Rocky Mountain Power, Juab, Salt Lake, Tooele and Utah Counties, UT, Wait Period Ends: 05/24/2010, Contact: Mike Nelson 801-977-4300.

EIS No. 20100142, Draft EIS, USFS, UT, Kitty Hawk Administrative Site Master Development Plan, Implementation, Cedar City Ranger District, Dixie National Forest, Cedar City, Iron County, UT, Comment Period Ends: 06/07/2010, Contact: Georgina Lampman 435-865-3794.

EIS No. 20100143, Final EIS, FHWA, NC, NC-24 Transportation Improvements, from west of I-95 to I-40, Funding, U.S. Army COE 4040 Permit, Cumberland, Sampson, and Duplin Counties, NC, Wait Period Ends: 05/24/2010, Contact: John F. Sullivan 919-865-4346.

EIS No. 20100144, Draft EIS, NRC, SC, Virgil C. Summer Nuclear Station Units 2 and 3, Application for Combined License to Construct and Operate a New Nuclear Reactors, Fairfield County, SC, Comment Period Ends: 07/06/2010, Contact: Patricia Vokoun 301-415-3470.

EIS No. 20100145, Draft EIS, NRC, MD, Calvert Cliffs Nuclear Power Plant Unit 3, Application for Combined License for Construct and Operate a New Nuclear Unit, NUREG 1936, Calvert County, MD, Comment Period Ends: 07/06/2010, Contact: Laura Quinn 301-415-2220.

Dated: April 20, 2010.
Ken Mittelholtz,
Deputy Director, NEPA Compliance Division, Office of Federal Activities.

[FR Doc. 2010-9462 Filed 4-23-10; 8:45 am]

BILLING CODE 6560-50-P